DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 21, 2007.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://dms.dot.gov.

This notice of receipt of applications for special permit is published in accordance with part 107 of the Federal hazardous materials transportation law (49 U.S.C. 5117(b); 49 CFR 1.53(b)).

Issued in Washington, DC, on November 14, 2007.
Delmer F. Billings,
Director, Office of Hazardous Materials, Special Permits and Approvals.

New Special Permits
Application No. | Docket No. | Applicant | Regulation(s) affected | Nature of special permits thereof
14597-N |  | The Columbiana Boiler Co., Columbiana, OH | 49 CFR 173.314 | To authorize the transportation in commerce of anhydrous ammonia in a DOT 110 multi unit tank car tank. (Modes 1, 2, 3)
14598-N |  | Tremcar USA, Inc., Saint-Jean-sur-Richeli eu, CN | 49 CFR 178.345 | To authorize the use of an alternative material in the manufacture of cargo tank components. (Mode 1)
14599-N |  | State of New York Department of Health, Albany, NY | 49 CFR 171.2(K) | To authorize the transportation in commerce of packagings identified as infectious substances, Category B, which are actually non-hazardous for purposes of shipping and packaging drills conducted through New York State to evaluate bioterrorism, chemical terrorism and pandemic influenza preparedness. (Modes 1, 2, 3, 4, 5)
14600-N |  | McLane Company, Inc. Temple, TX | 49 CFR 173.308 | To authorize the transportation in commerce of up to 5,000 lighters manufactured by BIC Corporation per motor vehicle not subject to the requirements of subparts C through H of part 173 and part 177 in its entirety. (Mode 1)
14601-N |  | Precision Combustion Technology, LLC | 49 CFR 173.302a | To authorize the manufacture, marking, sale and use of a non-DOT specification pressure vessel for the transportation in commerce of boron trifluoride. (Modes 1, 2, 3)
14602-N |  | Lockheed Martin Space Systems Company, Sunnyvale, CA | 49 CFR 173.304a, 173.301, 172.101 Table Column (9B) | To authorize the transportation in commerce of anhydrous ammonia in non-DOT specification packaging. (Modes 1, 2, 3, 4)
14603-N |  | Yi Wu Huan Qiu Can Manufacture Yiwu City, Zhejiang | 49 CFR 173.304(d), 173.306(a) and 178.33a | To authorize the manufacture, marking, sale and use of non-DOT specification inner nonrefillable metal receptacles similar to DOT specification 2Q containers for certain Division 2.2 materials. (Modes 1, 2, 3, 4)

[FR Doc. 07-5749 Filed 11-20-07; 8:45 am]

BILLING CODE 4909-60-M